DEPARTMENT OF ENERGY

Federal Energy Regulatory Commission

Notice of Commission Staff Attendance

The Federal Energy Regulatory Commission (Commission) hereby gives notice that members of the Commission's staff will attend the following meeting related to the Midcontinent Independent System Operator, Inc. (MISO)—PJM Interconnection, L.L.C. (PJM) Joint and Common Market Initiative (Docket No. AD14-3-000):

MISO/PJM Joint Stakeholder Meeting—August 23, 2016.

The above-referenced meeting will be held at: PJM Conference & Training Center, 2750 Monroe Boulevard, Audubon, PA 19403.

The above-referenced meeting is open to the public.

Further information may be found at www.pjm.com.

The discussions at the meeting described above may address matters at issue in the following proceedings:

Docket No. EL13-88, Northern Indiana Public Service Company v. Midcontinent Independent System Operator, Inc. and PJM Interconnection, L.L.C.

Docket No. ER11-1844, Midwest Independent Transmission System Operator, Inc.

Docket Nos. ER13-1924, ER13-1926, ER13-1944, ER15-2200, PJM Interconnection, L.L.C.

Docket No. ER14-1736, Midcontinent Independent System Operator, Inc.

Docket Nos. EL15-99, EL16-12, Internal MISO Generation v. Midcontinent Independent System Operator, Inc.

Docket No. ER16-1967-000, PJM Interconnection, L.L.C.

Docket No. ER10-1791, Midwest Independent Transmission System Operator, Inc.

Docket No. ER16-1969, Midcontinent Independent System Operator, Inc.

For more information, contact Bahaa Seireg, Office of Energy Policy and Innovation, Federal Energy Regulatory Commission at (202) 502-8739 or Bahaa.Seireg@ferc.gov.

Dated: August 17, 2016.
Kimberly D. Bose,
Secretary.

[FR Doc. 2016-20279 Filed 8-23-16; 8:45 am]

BILLING CODE 6717-01-P